DEPARTMENT OF TRANSPORTATION

Federal Highway Administration

Environmental Impact Statement: Prince George's and Charles Counties, MD

AGENCY: Federal Highway Administration (FHWA), DOT.

ACTION: Notice of Intent.

SUMMARY: The FHWA is issuing this notice to advise the public that an environmental impact statement (EIS) will be prepared for a proposed multi-modal transportation improvement project in Charles and Prince George's Counties, Maryland. The purpose of the EIS is to provide information and analyses for decisions on the project in accordance with the policies and purposes of the National Environmental Policy Act.

FOR FURTHER INFORMATION CONTACT: Mr. Daniel W. Johnson, Environmental Program Manager, Federal Highway Administration, City Crescent Building, 10 South Howard Street, Suite 2450, Telephone: (410) 779-7154.

SUPPLEMENTARY INFORMATION: The FHWA, in cooperation with the Maryland State Highway Administration, U.S. Army Corps of Engineers, and the U.S. Environmental Protection Agency will prepare an environmental impact statement (EIS) to improve mobility and safety along the U.S. 301 corridor in the Waldorf area of Charles and Prince George's Counties for a distance of approximately 13 miles.

Existing and projected growth in population and development is creating traffic congestion in southern Maryland along existing US 301 between US 301/MD 5 Interchange at T.B. and Turkey Hill Road/Washington Avenue. The local roadway network will reach capacity and will be uanble to accommodate this increased travel demand. Improvements within the corridor will address safety problems and accommodate existing and projected travel demand.

Alternatives under consideration include (1) taking no action (2) widening the existing US 301 roadway (3) constructing a limited access highway on new location. Transit components and transportation system management/travel demand management (TSM/TDM) strategies would be incorporated with all of the proposed alternatives. The study will include an overview of future corridor preservation needs southward from the proposed improvement study limits.

Letters describing the proposed action and soliciting comments will be sent to appropriate Federal, State, local agencies, private organizations, and citizens who have previously expressed or are known to have an interest in this project. Public involvement will be solicited through the project development process. A series of Public Workshops is scheduled for March 2007. Subsequently, a Public Hearing is anticipated for early 2008. The Draft EIS will be available for public and agency review and comment prior to the Public Hearing. Public notice will be given of the time and place of these meetings and the availability of the Draft EIS for review.

To ensure that the full range issues related to this proposed action are addressed and all significant issues identified, comments and suggestion are invited from all interested parties. Comments or questions concerning these proposed actions and EIS should be directed to the FHWA at the address provided above.

(Catalog of Federal Domestic Assistance Program Number 20.205, Highway Research, Planning and Construction. The regulation implementing Executive Order 12372 regarding intergovernmental consultation of Federal programs and activities apply to this program).

Dated: March 6, 2007.
Daniel W. Johnson,
Environmental Program Manager, Baltimore, Maryland.

[FR Doc. 07-1398 Filed 3-21-07; 8:45 am]

BILLING CODE 4910-22-M